DEPARTMENT OF ENERGY

Federal Energy Regulatory Commission

Combined Notice of Filings #2

Take notice that the Commission received the following electric rate filings:

Docket Numbers: ER15-1418-025; ER10-1841-035; ER10-2005-035; ER13-712-038; ER15-1883-025; ER15-2582-018; ER15-2676-029; ER16-91-024; ER16-632-024; ER16-1672-028; ER16-2190-026; ER16-2191-026; ER16-2453-027; ER17-804-008; ER17-2152-023; ER18-1863-018; ER18-1978-017; ER18-2118-022; ER19-987-022; ER19-1003-022; ER19-1073-015; ER19-2373-018; ER19-2461-018; ER19-2901-015; ER20-122-016; ER20-819-018; ER20-820-017; ER20-1769-014; ER20-1980-013; ER20-1987-017; ER20-2049-012; ER20-2179-014; ER21-1320-012; ER21-1519-010; ER21-1990-011; ER21-2294-014; ER21-2304-013; ER21-2674-010; ER22-415-012; ER22-2518-006; ER22-2634-009; ER23-71-006; ER23-568-009; ER22-2516-008; ER23-883-005; ER23-2107-006; ER23-2404-007; ER23-2694-006; ER23-2915-005; ER24-359-006; ER24-817-007; ER24-1804-006; ER25-1311-001; ER25-1437-001; ER25-1438-002.

Applicants: Dominguez Grid, LLC, Bronson Solar, LLC, Breckinridge Wind, LLC, Clearwater Wind III, LLC, Babbitt Ranch Energy Center, LLC, Crow Creek Solar, LLC, Chesapeake Solar Project, LLC, Cereal City Solar, LLC, Bronco Plains Wind II, LLC, Clearwater Wind II, LLC, Bell Ridge Solar, LLC, Chaves County Solar II, LLC, Big Cypress Solar, LLC, Buena Vista Energy Center, LLC, Buffalo Ridge Wind, LLC, Clearwater Wind I, LLC, Arlington Energy Center III, LLC, Borderlands Wind, LLC, Arlington Solar, LLC, Arlington Energy Center II, LLC, Blackwell Wind Energy, LLC, Cool Springs Solar, LLC, Crystal Lake Wind Energy III, LLC, Baldwin Wind Energy, LLC, Cedar Springs Wind III, LLC, Cerro Gordo Wind, LLC, Cedar Springs Wind, LLC, Chicot Solar, LLC, Blythe Solar IV, LLC, Blythe Solar III, LLC, Crowned Ridge Interconnection, LLC, Bronco Plains Wind, LLC, Crowned Ridge Wind, LLC, Ashtabula Wind I, LLC, Alta Wind VIII, LLC, Crystal Lake Wind Energy II, LLC, Crystal Lake Wind Energy I, LLC, Armadillo Flats Wind Project, LLC, Casa Mesa Wind, LLC, Coolidge Solar I, LLC, Cottonwood Wind Project, LLC, Coram California Develop.m.ent, L.P., Brady Interconnection, LLC, Brady Wind II, LLC, Brady Wind, LLC, Chaves County Solar, LLC, Blythe Solar II, LLC, Blythe Solar 110, LLC, Cedar Bluff Wind, LLC, Carousel Wind Farm, LLC, Adelanto Solar, LLC, Cimarron Wind Energy, LLC, Ashtabula Wind II, LLC, Butler Ridge Wind Energy Center, LLC, Adelanto Solar II, LLC.

Description: Notice of Change in Status of Adelanto Solar II, LLC, et al.

Filed Date: 4/30/25.

Accsession Number: 20250430-5725.

Comment Date: 5 p.m. ET 5/21/25.

Docket Numbers: ER18-2118-023; ER10-1952-021; ER11-2642-031; ER10-1849-037; ER10-1852-112; ER10-1951-085; ER11-4462-108; ER12-895-036; ER12-1228-038; ER13-712-039; ER13-2474-029; ER14-2707-033; ER14-2708-034; ER14-2710-033; ER15-30-031; ER15-58-031; ER15-2676-030; ER16-1440-027; ER16-1672-029; ER16-2190-027; ER16-2191-027; ER16-2240-027; ER16-2241-026; ER16-2275-026; ER16-2276-026; ER16-2297-027; ER16-2453-028; ER17-838-082; ER17-2152-024; ER18-882-025; ER18-1981-022; ER18-2003-022; ER18-2032-022; ER18-2066-017; ER18-2182-023; ER18-2314-020; ER19-1128-016; ER19-2495-018; ER19-2513-018; ER20-637-016; ER20-780-016; ER20-792-016; ER20-1907-015; ER20-1986-014; ER20-1991-016; ER20-2064-016; ER20-2179-015; ER20-2237-016; ER20-2597-016; ER20-2603-016; ER20-2648-015; ER21-1990-012; ER21-2117-014; ER21-2149-014; ER21-2225-014; ER21-2296-013; ER21-2699-015; ER22-1982-013; ER23-590-001; ER23-2629-008; ER24-2791-003; ER24-2792-006; ER24-2793-006; ER24-2794-006; ER25-554-003; ER25-1232-003; ER25-1311-002; ER25-1314-002; ER25-1315-001; ER25-1440-002.

Applicants: Skeleton Creek Energy Center, LLC, Willow Creek Wind Project, LLC, Seiling Wind Energy II, LLC, Breckinridge Wind, LLC, Kola Energy Storage, LLC, Wild Plains Wind Project, LLC, Minco II Energy Storage, LLC, Ponderosa Wind II, LLC, Oliver Wind IV, LLC, Breckinridge Energy Storage, LLC, High Banks Wind, LLC, Chaves County Solar II, LLC, Great Prairie Wind, LLC, Minco Wind Energy III, LLC, Ensign Wind Energy, LLC, Irish Creek Wind, LLC, Minco Wind Energy II, LLC, Little Blue Wind Project, LLC, Blackwell Wind Energy, LLC, Northern Divide Wind, LLC, Skeleton Creek Wind, LLC, Soldier Creek Wind, LLC, Weatherford Wind, LLC, Baldwin Wind Energy, LLC, High Majestic Wind I, LLC, Ponderosa Wind, LLC, Day County Wind I, LLC, Minco Wind I, LLC, Oklahoma Wind, LLC, Sooner Wind, LLC, Wilton Wind Energy I, LLC, Wilton Wind Energy II, LLC, Wessington Springs Wind, LLC, Rush Springs Energy Storage, LLC, Sholes Wind Energy, LLC, Minco IV & V Interconnection, LLC, Minco Wind IV, LLC, Wildcat Ranch Wind Project, LLC, Lorenzo Wind, LLC, Pratt Wind, LLC, Elk City Renewables II, LLC, Cottonwood Wind Project, LLC, NextEra Energy Marketing, LLC, Brady Interconnection, LLC, Osborn Wind Energy, LLC, Kingman Wind Energy II, LLC, Kingman Wind Energy I, LLC, Ninnescah Wind Energy, LLC, Rush Springs Wind Energy, LLC, Brady Wind II, LLC, Brady Wind, LLC, Chaves County Solar, LLC, Roswell Solar, LLC, Cedar Bluff Wind, LLC, Palo Duro Wind Interconnection Services, LLC, Seiling Wind Interconnection Services, LLC, Palo Duro Wind Energy, LLC, Seiling Wind, LLC, Mammoth Plains Wind Project, LLC, Steele Flats Wind Project, LLC, Cimarron Wind Energy, LLC, High Majestic Wind II, LLC, Minco Wind Interconnection Services, LLC, NEp.m. II, LLC, NextEra Energy Services Massachusetts, LLC, Florida Power & Light Company, Elk City Wind, LLC,FPL Energy South Dakota Wind, LLC, Gray County Wind Energy, LLC, Armadillo Flats Wind Project, LLC.

Description: Notice of Change in Status of Armadillo Flats Wind Project, LLC, et al.

Filed Date: 4/30/25.

Accsession Number: 20250430-5730.

Comment Date: 5 p.m. ET 5/21/25.

Docket Numbers: ER25-2186-000.

Applicants: 50LW 8me LLC.

Description: 205(d) Rate Filing: 50LW 8me LLC MISA Certificate of Concurrence to be effective 5/9/2025.

Filed Date: 5/8/25.

Accsession Number: 20250508-5111.

Comment Date: 5 p.m. ET 5/29/25.

Docket Numbers: ER25-2187-000.

Applicants: Southwest Power Pool, Inc.

Description: 205(d) Rate Filing: 4250R1 Woodward Energy Storage Surplus Interconnection GIA to be effective 7/8/2025.

Filed Date: 5/9/25.

Accsession Number: 20250509-5007.

Comment Date: 5 p.m. ET 5/30/25.

Docket Numbers: ER25-2188-000.

Applicants: Southwest Power Pool, Inc.

Description: 205(d) Rate Filing: Revisions to Clarify Application of the Federal Service Exemption to be effective 7/9/2025.

Filed Date: 5/9/25.

Accsession Number: 20250509-5015.

Comment Date: 5 p.m. ET 5/30/25.

Docket Numbers: ER25-2189-000.

Applicants: Actual Energy, Inc.

Description: Notice of Cancellation of Market-Based Rate Tariff of Actual Energy, Inc.

Filed Date: 5/8/25.

Accsession Number: 20250508-5164.

Comment Date: 5 p.m. ET 5/29/25.

Docket Numbers: ER25-2191-000.

Applicants: Mid-Atlantic Interstate Transmission, LLC.

Description: 205(d) Rate Filing: MAIT submits one Revised Construction Agreement SA No. 6945 to be effective 7/9/2025.

Filed Date: 5/9/25.

Accsession Number: 20250509-5036.

Comment Date: 5 p.m. ET 5/30/25.

Docket Numbers: ER25-2192-000.

Applicants: Virginia Electric and Power Company.

Description: 205(d) Rate Filing: VEPCO submits Revision to ATT H-16A—Add New Revenue Credit to be effective 1/1/2025.

Filed Date: 5/9/25.

Accsession Number: 20250509-5087.

Comment Date: 5 p.m. ET 5/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 9, 2025.
Debbie-Anne A. Reese,
Secretary.

[FR Doc. 2025-08633 Filed 5-14-25; 8:45 am]

BILLING CODE 6717-01-P